DEPARTMENT OF HOMELAND SECURITY

Coast Guard

33 CFR Part 127

[USCG-2007-27022]

RIN 1625-AB13

Revision of LNG and LHG Waterfront Facility General Requirements

AGENCY: Coast Guard, DHS.

ACTION: Rule; information collection approval.

SUMMARY: In a final rule published May 26, 2010, the Coast Guard amended Letter of Intent (LOI) and Waterway Suitability Assessment (WSA) requirements for liquefied natural gas (LNG) and liquefied hazardous gas (LHG) facilities. The amendment triggered information collection requirements affecting these facilities. The Coast Guard now announces that the collection of information has been approved by the Office of Management and Budget (OMB) under the Paperwork Reduction Act of 1995. The OMB Control Number is 1625-0049.

DATES: The collection of information requirement associated with 33 CFR 127.007 will be enforced beginning September 3, 2010.

FOR FURTHER INFORMATION CONTACT: If you have questions about this document, contact Commander Patrick Clark, CG-5222, U.S. Coast Guard, at 202-372-1410 or by e-mail at Patrick.W.Clark@uscg.mil. If you have questions on viewing or submitting material to the docket, call Renee V. Wright, Program Manager, Docket Operations, telephone 202-366-9826.

SUPPLEMENTARY INFORMATION: On May 26, 2010, the Coast Guard published a final rule entitled “Revision of LNG and LHG Waterfront Facility General Requirements” (75 FR 29420) amending the LOI and Letter of Recommendation (LOR) regulations for LNG and LHG facilities. The rule became effective on June 25, 2010.

The revised 33 CFR 127.007 describes LOI and WSA requirements for LNG and LHG facilities. As required by the Paperwork Reduction Act of 1995 (44 U.S.C. 3501-3520), the preamble of the final rule stated that the Coast Guard would not enforce the collection of information requirements associated with 33 CFR 127.007 until the collection of information request was approved by the Office of Management and Budget (OMB), and indicated the Coast Guard would publish a notice in the Federal Register announcing OMB approval.

The Coast Guard submitted the information collection request to OMB for approval in accordance with the Paperwork Reduction Act of 1995. On August 20, 2010, OMB approved the collection of information, which is assigned OMB Control Number 1625-0049. The approval of this collection expires on August 31, 2013. A copy of the OMB notice of action is available in our online docket at http://www.regulations.gov.

Dated: August 30, 2010.
J.G. Lantz,
Director of Commercial Regulations and Standards, U.S. Coast Guard.

[FR Doc. 2010-22021 Filed 9-2-10; 8:45 am]

BILLING CODE 9110-04-P